DEPARTMENT OF ENERGY

Federal Energy Regulatory Commission

[Docket Nos. RM98-10-003; RM98-12-003]

Regulation of short-Term Natural Gas Transportation Services; Regulation of Interstate Natural Gas Transportation Services; Order Denying Stay

Issued March 24, 2000.

Before Commissioners: James J. Hoecker, Chairman; William L. Massey, Linda Breathitt, and Curt Hébert, Jr.

On February 9, 2000, The Federal Energy Regulatory Commission (Commission) issued a final rule ¹ that amended the Commission's open access regulations to grant a waiver for a limited period of the price ceiling for released capacity transactions of less than one year.² The waiver takes effect on March 26, 2000. On March 15, 2000, Indicated Shippers and the Independent Petroleum Association of America filed a motion to stay the effective date of the waiver pending the Commission's consideration of the order and rehearing and any subsequent judicial review.

¹ Regulation of Short-Term Natural Gas Transportation Services and Regulation of Interstate Natural Gas Transportation Services, 63 FR 10156 (Feb. 25, 2000), III FERC Stats. & Regs. Regulations Preambles ¶ 31,091 (Feb. 9, 2000).

² 18 CFR 284.8 (i).

The Administrative Procedure Act provides that an agency may stay an action “when justice so requires.” ³ The Commission finds that justice does not require the issuance of a stay, and denies the motion.

³ 5 U.S.C. 705 (1994).

The Commission orders: The motion for stay is denied.

By the Commission.
Linwood A. Watson, Jr.,
Acting Secretary.

[FR Doc. 00-7799 Filed 3-29-00; 8:45 am]

BILLING CODE 6717-01-M